DEPARTMENT OF HOMELAND SECURITY

Coast Guard

33 CFR Part 167

[USCG-2011-0351]

Port Access Route Study: The Atlantic Coast From Maine to Florida

AGENCY: Coast Guard, DHS.

ACTION: Notice of study; reopening of the comment period.

SUMMARY: The U.S. Coast Guard is reopening the comment period to further its outreach efforts and solicit additional comments concerning its Port Access Route Study being conducted along the Atlantic Coast from Maine to Florida.

DATES: Comments and related material must reach the Docket Management Facility on or before January 31, 2012.

ADDRESSES: You may submit comments identified by docket number USCG-2011-0351 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329. To avoid duplication, please use only one of these four methods. See the “Public Participation and Request for Comments” portion of the SUPPLEMENTARY INFORMATION section below for instructions on submitting comments.

FOR FURTHER INFORMATION CONTACT: If you have questions on this notice of study contact George Detweiler, Office of Navigation Systems, Coast Guard, telephone (202) 372-1566, email George.H.Detweiler@uscg.mil or submit questions to ACPARS@uscg.mil. If you have questions on viewing or submitting material to the docket, call Ms. Renee K. Wright, Program Manager, Docket Operations, telephone (202) 366-9826.

SUPPLEMENTARY INFORMATION:

I. Public Participation and Request for Comments

We encourage you to participate in this study by submitting comments and related materials. All comments received will be posted, without change, to http://www.regulations.gov and will include any personal information you have provided.

A. Submitting Comments

If you submit comments, please include the docket number for this rulemaking (USCG-2011-0351), indicate the specific section of this document to which each comment applies, and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notice” and insert “USCG-2011-0351” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

B. Viewing the Comments and Documents

To view the comments and documents mentioned in this preamble as being available in the docket, go to http://www.regulations.gov, click on the “read comments” box, which will then become highlighted in blue. In the “Keyword” box insert “USCG-2011-0351” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

II. Background and Purpose

The Coast Guard announced in the Federal Register (76 FR 27288, May 11, 2011) that it was conducting a Port Access Route Study (PARS) to evaluate the continued applicability of, and the need for modifications to, current vessel routing measures off the Atlantic Coast from Maine to Florida. The original comment period closed on August 9, 2011. The initial announcement contains definitions and useful background information concerning the PARS. The public is encouraged to review the initial announcement.

The data gathered during the Atlantic Coast PARS may result in establishment of one or more new vessel routing measures, modification of existing routing measures, or disestablishment of existing routing measures off the Atlantic Coast from Maine to Florida. The goal of the Atlantic Coast PARS is to enhance navigational safety by examining existing shipping routes and waterway uses, and, to the extent practicable, reconciling the paramount right of navigation within designated port access routes with other reasonable waterway uses such as the leasing of outer continental shelf blocks for the construction and operation of offshore renewable energy facilities. The recommendations of the study may lead to future rulemaking action or appropriate international agreements.

The Coast Guard received 26 comments to the docket. After review of the comments, the Coast Guard has determined that it needs to reopen the comment period to seek more information to ensure that the PARS is comprehensive in its data collection and analysis. Most of the comments received to date were applicable to the Mid-Atlantic region, including the approaches into Chesapeake Bay and Delaware Bay. Moreover, these comments were limited to issues relevant to oceangoing shipping and coastwise tug and barge traffic and did not include information from other stakeholders. In addition to the Mid-Atlantic region, the Coast Guard has become aware of private sector interest in developing wind energy and hydrokinetic installations off the coasts of Maine, North Carolina, South Carolina, Georgia, and Florida. Therefore, it is important that the Coast Guard receive comments on the potential impacts to the maritime community in these locations as well.

The Coast Guard is using Automatic Identification System (AIS) data as its primary means of determining routes or operating areas based on the density and track lines of AIS equipped vessels. However, it is important for the Coast Guard to also collect data on routes or operating areas that may not be reflected in the AIS data. This request for comments is the primary means for the Coast Guard to collect information from stakeholders who may not be represented in the AIS data or for which the number of transits in a given area are not substantial. These users may include commercial fishing vessels, small passenger vessels, sightseeing and eco-tour vessels, recreational and charter fishing vessels, yachts, and sailing vessels.

III. Questions

The Coast Guard requests specific responses to the following questions, which are in addition to the questions posed in the initial notice.

(1) How are your ocean going vessel coastwise routes affected by seasonal or episodic weather variations?

(2) How are your near coastal tug and barge routes affected by seasonal or episodic weather variations?

(3) Is there a regularly scheduled recreational event that uses the near coastal waters in your area? Recreational events would include offshore fishing tournaments, offshore power boat races, offshore sailing regattas, etc.

(4) Do you regularly transit the near coastal area on recreational/private yachts? If yes, how far offshore is your typical route? Does your route change seasonally or according to weather conditions?

(5) Should coastwise routes be established along the Atlantic Seaboard similar to the “M-95” marine highway corridor designated by the Maritime Administration as part of “America's Marine Highway Program”? For more information on this program, see America's Marine Highway Program—Report to Congress—April 2011 (http://www.marad.dot.gov/documents/MARAD_AMH_Report_to_Congress.pdf). If yes, where should they be located?

(6) What are the pros and cons to the Coast Guard designating coastwise fairways or traffic separation schemes (TSSs)?

(7) Could the creation of designated coastwise routes adversely impact watchstanding or other operational requirements? If so, please explain.

(8) If coastwise fairways were created, should separate fairways be created for different vessel types such as tug and barge vs. deep draft vessels?

(9) Should there be separate lanes for vessels travelling in opposing directions?

(10) Should participation in any coastwise traffic scheme be voluntary or mandatory for all or certain classes of vessels?

(11) Given the potentially long transit times, varying sea state and weather conditions; what is an appropriate width for fairways to prevent degradation to navigational safety? Are there particular areas where the width could be smaller or should be larger?

This notice is issued under authority of 33 U.S.C. 1223(c) and 5 U.S.C. 552.

Dated: October 31, 2011.
Robert C. Parker,
Vice Admiral, U.S. Coast Guard, Commander, Atlantic Area.

[FR Doc. 2011-31594 Filed 12-8-11; 8:45 am]

BILLING CODE 9110-04-P